DEPARTMENT OF ENERGY

Federal Energy Regulatory Commission

Combined Notice of Filings #1

Take notice that the Commission received the following electric corporate filings:

Docket Numbers: EC14-127-001; EL14-91-001.

Applicants: NextEra Energy Partners, LP.

Description: Notice of Change in Material Facts of NextEra Energy Partners, LP under EL14-91, et al.

Filed Date: 9/5/17.

Accession Number: 20170905-5166.

Comments Due: 5 p.m. ET 9/26/17.

Docket Numbers: EC17-176-000.

Applicants: El Cabo Wind LLC.

Description: Application for Authorization of Transactions under Section 203 of the FPA, and Requests for Shortened Comment Period, Expedited Action, Waivers, and Confidential Treatment of El Cabo Wind LLC.

Filed Date: 9/13/17.

Accession Number: 20170913-5125.

Comments Due: 5 p.m. ET 10/4/17.

Docket Numbers: EC17-177-000.

Applicants: Carson Cogeneration Company LP.

Description: Application for Prospective FPA Section 203 Authorization of Carson Cogeneration Company LP.

Filed Date: 9/14/17.

Accession Number: 20170914-5045.

Comments Due: 5 p.m. ET 10/5/17.

Docket Numbers: EC17-178-000.

Applicants: Five Points Solar Park LLC, Grand View PV Solar Two LLC, Three Peaks Power, LLC.

Description: Application for Authorization under Section 203 of the Federal Power Act and Requests for Confidential Treatment, Expedited Consideration, and Waivers of Five Points Solar Park LLC, et al.

Filed Date: 9/14/17.

Accession Number: 20170914-5088.

Comments Due: 5 p.m. ET 10/5/17.

Take notice that the Commission received the following electric rate filings:

Docket Numbers: ER10-2074-007; ER10-2097-009.

Applicants: Kansas City Power & Light Company, KCP&L Greater Missouri Operations Company.

Description: Notice of Change in Status of Kansas City Power & Light Company, et al.

Filed Date: 9/14/17.

Accession Number: 20170914-5101.

Comments Due: 5 p.m. ET 10/5/17.

Docket Numbers: ER13-587-002.

Applicants: Carson Cogeneration Company LP.

Description: Notice of Non-Material Change in Status of Carson Cogeneration Company LP.

Filed Date: 9/14/17.

Accession Number: 20170914-5047.

Comments Due: 5 p.m. ET 10/5/17.

Docket Numbers: ER16-2192-000.

Applicants: Startrans IO, LLC.

Description: Report Filing: Refund Report to be effective N/A.

Filed Date: 9/14/17.

Accession Number: 20170914-5094.

Comments Due: 5 p.m. ET 10/5/17.

Docket Numbers: ER17-2185-002.

Applicants: Great Valley Solar 1, LLC.

Description: Tariff Amendment: Great Valley Solar 1, LLC Second Amendment to SFA Filing and Request to be effective 10/1/2017.

Filed Date: 9/14/17.

Accession Number: 20170914-5127.

Comments Due: 5 p.m. ET 9/21/17.

Docket Numbers: ER17-2193-002.

Applicants: Great Valley Solar 1, LLC.

Description: Tariff Amendment: Great Valley Solar 1, LLC Second Amendment to LGIA CTA Filing and Request to be effective 10/1/2017.

Filed Date: 9/14/17.

Accession Number: 20170914-5129.

Comments Due: 5 p.m. ET 9/21/17.

Docket Numbers: ER17-2471-000.

Applicants: ORNI 43 LLC.

Description: Baseline eTariff Filing: Petition for Approval of Initial Market-Based Rate Tariff to be effective 9/18/2017.

Filed Date: 9/14/17.

Accession Number: 20170914-5044.

Comments Due: 5 p.m. ET 10/5/17.

Docket Numbers: ER17-2472-000.

Applicants: ONGP LLC.

Description: Baseline eTariff Filing: Petition for Approval of Initial Market-Based Rate Tariff to be effective 9/18/2017.

Filed Date: 9/14/17.

Accession Number: 20170914-5057.

Comments Due: 5 p.m. ET 10/5/17.

Docket Numbers: ER17-2473-000.

Applicants: Tucson Electric Power Company.

Description: § 205(d) Rate Filing: Cancellation of Rate Schedule No. 48 to be effective 12/31/2017.

Filed Date: 9/14/17.

Accession Number: 20170914-5093.

Comments Due: 5 p.m. ET 10/5/17.

Docket Numbers: ER17-2474-000.

Applicants: Palmco Power DE, LLC.

Description: § 205(d) Rate Filing: Ancillary Sales to be effective 11/13/2017.

Filed Date: 9/14/17.

Accession Number: 20170914-5137.

Comments Due: 5 p.m. ET 10/5/17.

Docket Numbers: ER17-2475-000.

Applicants: Durgin and Crowell Lumber Company, Inc.

Description: Baseline eTariff Filing: Durgin and Crowell Lumber Company Inc. MBR Tariff Application to be effective 11/1/2017.

Filed Date: 9/14/17.

Accession Number: 20170914-5141.

Comments Due: 5 p.m. ET 10/5/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 14, 2017.
Nathaniel J. Davis, Sr.,
Deputy Secretary.

[FR Doc. 2017-20014 Filed 9-19-17; 8:45 am]

BILLING CODE 6717-01-P